DEPARTMENT OF COMMERCE

National Oceanic and Atmospheric Administration

[RTID 0648-XE680]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 155th Scientific and Statistical Committee (SSC), Hawaii Archipelago and Pacific Remote Island Areas (PRIA) Fishery Ecosystem Plan (FEP) Advisory Panel (AP), and American Samoa Archipelago FEP AP to discuss and make recommendations on fishery management issues in the Western Pacific Region.

DATES: The meetings will be held between March 11 and March 18, 2025. For specific times and agendas, see SUPPLEMENTARY INFORMATION.

ADDRESSES: The Council will hold its 155th SSC, Hawaii Archipelago and PRIA FEP AP, and American Samoa Archipelago FEP AP meetings in a hybrid format with in-person and remote participation (Webex) options available for the members and the public. In person attendance (for members and public) for the SSC and the Hawaii Archipelago and PRIA FEP AP meetings will be hosted at the Courtyard King Kamehameaha's Kona Beach Hotel Kamakahonu Ballroom, 75-5660 Palani Road, Kailua-Kona, HI 96740. In-person attendance for American Samoa Archipelago FEP AP and public will be hosted at the Tedi of Samoa Suite 208B, P8C6+V2F, Fagotogo Village, AS, 96799. Instructions for connecting to the web conference and providing oral public comments will be posted on the Council website at www.wpcouncil.org. For assistance with the web conference connection, contact the Council office at (808) 522-8220.

FOR FURTHER INFORMATION CONTACT: Contact Kitty M. Simonds, Executive Director, Western Pacific Fishery Management Council; phone: (808) 522-8220.

SUPPLEMENTARY INFORMATION: The 155th SSC meeting will be held between 8:30 a.m. and 1 p.m. (Hawaii Standard Time [HST]) on March 11, 2025, 9 a.m. and 5 p.m. on March 12, 2025, and 9 a.m. and 12 p.m. on March 13, 2025. The Hawaii Archipelago and PRIA FEP AP will be held between 1 p.m. and 5 p.m. (HST) on Thursday, March 13, 2025. The American Samoa Archipelago FEP AP will be held between 6 p.m. and 8 p.m. (Samoa Standard Time [SST]) on Tuesday, March 18, 2025.

Public Comment periods will be provided in the agendas. The order in which agenda items are addressed may change. The meetings will run as late as necessary to complete scheduled business.

Schedule and Agenda for the 155th SSC Meeting

Tuesday, March 11, 2025, 8:30 a.m. to 1 p.m. (HST)

1. Introductions

2. Approval of Draft Agenda and Assignment of Rapporteurs

3. Status of the 154th SSC Meeting Recommendations

4. Pacific Islands Fisheries Science Center (PIFSC) Director Report

5. Island Fisheries

A. Setting Acceptable Biological Catch (ABC) for the Main Hawaiian Islands (MHI) Uku (Action Item)

B. Review of ABC for Precious Coral and Deep-water Shrimp (Action Item)

C. CNMI Bottomfish Stock Assessment Update Western Pacific Stock Assessment Review Terms of Reference

D. Public Comment

E. SSC Discussion and Recommendations

6. Pelagic & International Fisheries

A. Electronic Monitoring (EM) Status Update

A.1. Update on EM Program Implementation

A.2. EM Sampling Strategy and Planning

A.3. Socioeconomic Impacts Analysis for Council Action

B. Public Comment

C. SSC Discussion and Recommendations

Wednesday, March 12, 2025, 9 a.m. to 5 p.m. (HST)

7. Program Planning and Research

A. PIFSC Activities associated with Magnuson-Stevens Act Research Priorities

B. SSC Special Projects

B.1. Overview of the SSC Special Project List

B.2. SSC Historical Perspective

B.3. Special Projects Presentation: SSC Process

B.4. Special Projects Presentation: Human Dimensions

C. Public Comment

D. SSC Discussion and Recommendations

8. Protected Species

A. Council Protected Species Update

B. Endangered Species Act (ESA) and Marine Mammal Protection Act (MMPA) Updates

B.1. Final 2023 False Killer Whale Stock Assessment Report

B.2. Status of ESA and MMPA Actions

C. Public Comment

D. SSC Discussion and Recommendations

Thursday, March 13, 2025, 9 a.m. to 12 p.m. (HST)

9. Other Business

A. SSC Meeting Schedule and Potential Working Groups

10. Summary of SSC Recommendations to the Council

Schedule and Agenda for the Hawaii Archipelago and PRIA FEP AP Meeting

Thursday, March 13, 2025, 1 p.m. to 5 p.m. (HST)

1. Welcome and Introductions

2. Review of the Last AP Recommendation and Meeting

3. Council Fisheries Issues

A. MHI Uku Annual Catch Limits (ACL) Specification for 2026 to 2029

B. MHI Deepwater Shrimp and Precious Corals ACL Specifications for 2025 to 2028

C. Updates on Hawaii and American Samoa Longline Fisheries Crew Training Requirements

D. EM Status Update

E. U.S. Catch Limits for North Pacific Striped Marlin

4. Regulatory Review, Community Consultation and Planning through the Inflation Reduction Act (IRA)

A. Fishery Monitoring and Management Regime

i. Hawaii Archipelago FEP Overview

ii. State of Hawaii Management Initiatives to Address Climate Impacts

B. Climate Impacts on Fisheries and Communities

i. FishMaps

ii. Future Scenarios for Hawaii Small-Boat Fisheries

C. Community Fisheries

i. Fishery Development and Training Opportunities

5. AP Strategic Planning for 2025

6. Public Comment

7. Discussion and Recommendations

8. Other Business

Schedule and Agenda for the American Samoa Archipelago FEP AP Meeting

Tuesday, March 18, 2025, 6 p.m. to 8 p.m. (SST)

1. Welcome and Introductions

2. Review of the Last AP Recommendation and Meeting

3. Council Fisheries Issues

A. American Samoa Bottomfish Management Unit Species Revision

B. Updates on Hawaii and American Samoa Longline Fisheries Crew Training Requirements

C. EM Status Update

4. Regulatory Review, Community Consultation and Planning through the IRA

A. Fishery Monitoring and Management Regime

i. American Samoa Archipelago FEP Overview

ii. American Samoa Territorial Fishery Management Plan Development

B. Climate Impacts on Fisheries and Communities

i. FishMaps

ii. Future Scenarios for American Samoa Small-Boat Fisheries

C. Community Fisheries

i. Fishery Development and Training Opportunities

5. AP Strategic Planning for 2025

6. Public Comment

7. Discussion and Recommendations

8. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 19, 2025.
Alyssa Weigers,
Acting Deputy Director, Office of Sustainable Fisheries, National Marine Fisheries Service.

[FR Doc. 2025-03011 Filed 2-21-25; 8:45 am]

BILLING CODE 3510-22-P